DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Paperwork Submissions Under the Coastal Zone Management Act Federal Consistency Requirements.

OMB Control Number: 0648-0411.

Form Number(s): None.

Type of Request: Regular (extension of a currently approved information collection).

Number of Respondents: 2,437.

Average Hours per Response: Federal Agency/License or Permit and Assistance and State Response: 8 hours; Federal Assistance Applications and State Response: 2 hours; Unlisted Activities Requests and Remedial Action Requests: 4 hours each; Public Notices and Listing Notice/Coordination—State Listings: 1 hour each; Listing Notice/Coordination—Interstate Listing: 30 hours; Mediation Requests: 2 hours; and Secretarial Appeals: 210 hours.

Burden Hours: 35,799.

Needs and Uses: The Coastal Zone Management Act (CZMA) creates a State-federal partnership to improve the management of the nation's coastal zone through the development of federally approved State coastal management plans (CMPs). The CZMA provides two incentives for States to develop federally approved CMPs: (1) The National Oceanic and Atmospheric Administration (NOAA) has appropriated monies to grant to States to develop and implement State CMPs that meet statutory and regulatory criteria; and (2) The CZMA requires federal agencies, non-federal licensees, and State and local government recipients of federal assistance to conduct their activities in a manner “consistent” with the enforceable policies of NOAA-approved CMPs. The latter incentive, referred to as the “federal consistency” provision, is found at 16 U.S.C. 1456. NOAA's regulations at 15 CFR part 930 implement NOAA's responsibilities to provide procedures for the consistency provision, the procedures available for an appeal of a State's objection to a consistency certification as provided for in 16 U.S.C. 1456(c)(3)(A) and (B) and 1456(d), and changes in the appeal process created by Congressional amendments in 1990, 1996 and 2005, and found at 16 U.S.C. 1465.

Paperwork and information collection occurs largely outside of NOAA by: (1) State and Federal agencies engaged in licensing and permitting activities affecting coastal resources, (2) Federal agencies taking actions affecting State coastal zones, and (3) Federal agencies providing federal assistance to State and local governments in the coastal zone. In each of these cases, information is collected by the entity making the license, permit, assistance or action decision and NOAA's regulations provide for the use of that information already required by the State or Federal entity in the consistency process. Pursuant to 16 U.S.C. 1456, NOAA's regulations require the appropriate entity, Federal agency or applicant for license or permit, to prepare a consistency determination or certification. This information is provided to the relevant State CMP, not to NOAA. Information is provided to NOAA only when there is a State objection to a consistency certification, when informal mediation is sought by a Federal agency or State, or when an applicant for a federal license or permit appeals to the Secretary of Commerce for an override to a State CMPs objection to a consistency certification. Last, in 1990, Congress required State CMPs to provide for public participation in their permitting processes, consistency determinations and similar decisions, 16 U.S.C. 1455(d)(14), and NOAA regulations at part 930 implement that requirement.

A number of paperwork submissions are required by the Coastal Zone Management Act (CZMA) federal consistency provision, 16 U.S.C. 1456, and implementing regulations. These submissions are intended to provide a reasonable, efficient, and predictable means of complying with CZMA requirements. The paperwork submission requirements are detailed in 15 CFR part 930. The information will be used by coastal states with federally approved Coastal Zone Management Programs to determine if Federal agency activities, Federal license or permit activities, and Federal assistance activities that affect a state's coastal zone are consistent with the state's coastal management program. Information will also be used by NOAA and the Secretary of Commerce for appeals to the Secretary by non-federal applicants regarding state CZMA objections to federal license or permit activities or Federal assistance activities.

Affected Public: Federal and state agencies, federal license and permit applicants, lessees under the Outer Continental Shelf Lands Act, state and local governments applying for federal financial assistance.

Frequency: The frequency of reporting is occasional, as determined by the requirements of 16 U.S.C. 1456 and 15 CFR part 930.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-01217 Filed 1-24-20; 8:45 am]

BILLING CODE 3510-08-P